DEPARTMENT OF EDUCATION

Final Waiver and Extension of the Project Period for the Opportunity Scholarship Program

AGENCY: Office of Innovation and Improvement, Department of Education.

ACTION: Final waiver and extension of the project period.

[Catalog of Federal Domestic Assistance (CFDA) Number: 84.370A.]

SUMMARY: For projects funded under the DC Opportunity Scholarship Program (OSP), the Secretary: (1) Waives the requirements of the Education Department General Administrative Regulations that generally prohibit project period extensions involving the obligation of additional Federal funds; and (2) extends the project period for the current OSP grantee for up to an additional 24 months under the existing program authority. This waiver and extension will enable the Department to provide continuation awards to the current OSP grantee through FY 2019 under the existing program authority.

DATES: As of May 3, 2018, the waiver and extension of the project period are finalized.

FOR FURTHER INFORMATION CONTACT: Anna Hinton, U.S. Department of Education, 400 Maryland Avenue SW, room 4W229, Washington, DC 20202. Telephone: (202) 260-1816. Email: anna.hinton@ed.gov.

If you use a telecommunications device for the deaf (TDD) or a text telephone (TTY), call the Federal Relay Service (FRS), toll free, at 1-800-877-8339.

SUPPLEMENTARY INFORMATION: On January 24, 2018, the Department published a notice in the Federal Register (83 FR 3336) proposing to waive the requirements of 34 CFR 75.261(a) and (c)(2) that generally prohibit project period extensions involving the obligation of additional Federal funds. In that notice, the Secretary also proposed to extend the OSP project period for up to an additional 24 months, to enable the Department to provide continuation awards to the current OSP grantee through FY 2019 under the existing program authority.

That notice contained background information and our reasons for proposing the waiver and extension of the project period. This notice makes the waiver and extension of the project period final. Any activities carried out during the period of an OSP continuation award will have to be consistent with, or a logical extension of, the scope, goals, and objectives of the grantee's application as approved in the FY 2015 OSP competition and the ensuing cooperative agreement. The requirements applicable to continuation awards for this competition set forth in the 2015 notice inviting applications (80 FR 9448) and the requirements in 34 CFR 75.253 will apply to any continuation awards sought by the current OSP grantee. The Department will not announce a new competition or make new awards in FY 2018 and FY 2019.

Public Comment: In response to our invitation in the proposed waiver and extension, we received two comments. Generally, the Department does not address technical and other minor changes. In addition, the Department does not address general comments that raise concerns not directly related to the proposed waiver and extension.

There are no substantive differences between the proposed waiver and extension and the final waiver and extension.

Analysis of Comments and Discussion

Comments: One commenter supported the proposed waiver and extension of the OSP project period, and one commenter opposed the proposed action. The commenters provided various reasons for their positions.

An anonymous commenter stated that the administration of the OSP should remain the responsibility of the current grantee until there is a justifiable reason to identify another. The commenter further stated that selection of a new grantee should always coincide with the reauthorization of the Scholarships for Opportunity and Results (SOAR) Act.

One commenter, a coalition of more than 50 organizations devoted to the support of public schools, opposed the proposed waiver and extension. The commenter cited concerns with the current and prior grantees' administration of the program; and challenged the Department's assumptions regarding a qualified and interested applicant pool to compete for the grant. For these reasons, the commenter states that the Department should hold a competition in FY 2018.

Discussion: The Department appreciates the commenters' feedback. Under the SOAR Act, the Department is responsible for administration of the OSP and oversight of the OSP grantee. Based on the Department's experience working with the current OSP grantee, the Department believes that extending the current grantee's project will create stability and continuity by: (1) Permitting the current grantee to fully implement the new recruitment and marketing strategies designed to significantly increase scholarship usage rates; and (2) aligning the next OSP competition with the next anticipated reauthorization of the SOAR Act. Additionally, based on the Department's current experience administering and overseeing the OSP and the number of qualified applicants in past competitions, the Department does not believe that another eligible organization with capacity to administer this program is interested in doing so.

Changes: None.

Regulatory Flexibility Act Certification

The Secretary certifies that the final waiver and extension and the activities required to support additional months of funding will not have a significant economic impact on a substantial number of small entities.

The small entity that will be affected by this final waiver and extension is the FY 2015 grantee, the non-profit organization currently receiving Federal funds under the OSP. This final waiver and extension will not have a significant economic impact on this entity because the activities required to support the additional year(s) of funding will not impose excessive regulatory burdens or require unnecessary Federal supervision. The waiver will impose minimal requirements to ensure the proper expenditure of program funds, including requirements that are standard for continuation awards.

Paperwork Reduction Act of 1995

This notice of final waiver and extension does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: March 29, 2018.
Margo K. Anderson,
Acting Assistant Deputy Secretary for Innovation and Improvement.

[FR Doc. 2018-06757 Filed 4-2-18; 8:45 am]

BILLING CODE 4000-01-P